DEPARTMENT OF TRANSPORTATION

Research and Special Programs Administration

Office of Hazardous Materials Safety; Notice of Application for Modification of Exemption

AGENCY: Research and Special Programs Administration, DOT.

ACTION: List of Applications for Modification of Exemptions.

SUMMARY: In accordance with the procedures governing the application for, and the processing of, exemptions from the Department of Transportation's Hazardous Materials Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before March 13, 2003.

ADDRESS COMMENTS TO: Records Center, Research and Special Programs, Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exemptions is published in accordance with Part 107 of the Federal hazardous materials transportation law (49 U.S.C. 5117(b); 49 CFR 1.53(b)).

Issued in Washington, DC, on February 20, 2003.
R. Ryan Posten,
Exemptions Program Officer, Office of Hazardous Materials, Exemptions and Approvals.

Application No. | Docket No. | Applicant | Modification of exemption
10232-M |  | Sexton Can Company, Inc., Cambridge, MA ¹ | 10232
11670-M |  | Schlumberger-Oilphase, Dyce, Aberdeen Scotland, UK ² | 11670
11691-M |  | Cott Concentrates, Columbus, GA ³ | 11691
11970-M | RSPA-97-2993 | ExxonMobil Chemical Company, Houston, TX ⁴ | 11970
13143-M | RSPA-02-13568 | GS Battery USA, Inc., City of Industry, CA ⁵ | 13143
13187-M |  | Syncor Radiation Mgmt, Cleveland, OH ⁶ | 13187
¹ To modify the exemption to authorize a capacity increase to 40 cubic inches of the non-refillable, non-DOT specification container for the transportation of Division 2.2 materials.
² To modify the exemption to authorize the use of two newly designed non-DOT specification oil well sampling cylinders with an increased service pressure to 25,000 psig for the transportation of Division 2.1 materials.
³ To modify the exemption to authorize the transportation of an additional Class 8 material via cargo vessel.
⁴ To modify the exemption to authorize the transportation of a hazardous material using an alternative shipping description of Division 4.2, 4.3 transported in non-DOT specification steel portable tanks.
⁵ To reissue the exemption originally issued on an emergency basis for the transportation of a Class 8 material in non-DOT specification packaging.
⁶ To reissue the exemption originally issued on an emergency basis for the use of non-DOT specification packaging for the transportation of Division 2.2 materials.

[FR Doc. 03-4556 Filed 2-25-03; 8:45 am]

BILLING CODE 4910-60-M